ENVIRONMENTAL PROTECTION AGENCY

40 CFR Part 52

[CA 272-0376; FRL-7412-9]

Withdrawal of Direct Final Rule Revising the California State Implementation Plan, Bay Area Air Quality Management District

AGENCY: Environmental Protection Agency (EPA).

ACTION: Withdrawal of direct final rule.

SUMMARY: On October 7, 2002 (67 FR 62385), EPA published a direct final approval of a revision to the Bay Area Air Quality Management District (BAAQMD) State Implementation Plan (SIP). This revision concerned BAAQMD Rule 9-10, Nitrogen Oxides and Carbon Monoxide from Boilers, Steam Generators, and Process Heaters in Petroleum Refineries. The direct final action was published without prior proposal because EPA anticipated no adverse comment. The direct final rule stated that if adverse comments were received by November 6, 2002, EPA would publish a timely withdrawal in the Federal Register. EPA received timely adverse comments and is, therefore, withdrawing the direct final approval. EPA will address the comments in a subsequent final action based on the parallel proposal also published on October 7, 2002 (67 FR 62427). As stated in the parallel proposal, EPA will not institute a second comment period on this action. The interim final determination also published on October 7, 2002 and also regarding BAAQMD Rule 9-10 is not affected by this withdrawal.

EFFECTIVE DATE: The direct final rule published on October 7, 2002, is withdrawn as of November 25, 2002.

FOR FURTHER INFORMATION CONTACT: Charnjit Bhullar, EPA Region IX, (415) 947-972-3960.

List of Subjects in 40 CFR Part 52

Environmental protection, Air pollution control, Intergovernmental relations, Nitrogen dioxide, Ozone, Particulate matter, Reporting and recordkeeping requirements, Volatile organic compounds.

Dated: November 7, 2002.
Sally Seymour,
Acting Regional Administrator, Region IX.

Accordingly, the revision to 40 CFR 52.220, published in the Federal Register on October 7, 2002 (67 FR 62385), [FR Doc. 02-25297 Filed 10-4-02], which was to become effective on December 6, 2002, is withdrawn.

[FR Doc. 02-29884 Filed 11-22-02; 8:45 am]

BILLING CODE 6560-50-P